INTERNATIONAL TRADE COMMISSION

[Investigation No. 332-432]

Certain Steel Wire Rod: Effects of Import Relief Action on the Domestic Industry and Principal Users in the United States

AGENCY: International Trade Commission.

ACTION: Institution of investigation.

EFFECTIVE DATE: April 26, 2001.

SUMMARY: Following receipt, on April 26, 2001, of a request from the United States Trade Representative (USTR), the U.S. International Trade Commission (Commission) instituted investigation No. 332-432, Certain Steel Wire Rod: Effects of Import Relief Action on the Domestic Industry and Principal Users in the United States, under section 332(g) of the Tariff Act of 1930 (19 U.S. C. 1332(g)).

FOR FURTHER INFORMATION CONTACT: Debra Baker (202-205-3180), Office of Investigations, U.S. International Trade Commission, 500 E St., SW., Washington, DC 20436. Hearing impaired individuals are advised that information on this matter can be obtained by contacting the TDD terminal on (202-205-1810). Persons with mobility impairments who will need special assistance in gaining access to the Commission should contact the Office of the Secretary at 202-205-2000. General information concerning the Commission may also be obtained by accessing its Internet server (http://www.usitc.gov). The public record for this investigation may be viewed on the Commission's electronic docket (EDIS-ON-LINE) at http://dockets.usitc.gov/eol/public.

SUPPLEMENTARY INFORMATION:

Background

Following receipt of a report from the Commission in July 1999 under section 202 of the Trade Act of 1974 (19 U.S.C. 2252),¹ the President, on February 16, 2000, issued Proclamation 7273, imposing import relief in the form of a tariff-rate quota on imports of certain steel wire rod (65 FR 8621, February 18, 2000). In his memorandum to the Secretary of the Treasury and the USTR that accompanied the proclamation for the wire rod relief action, the President instructed that the USTR request that the Commission, pursuant to section 332(g) of the Tariff Act of 1930 (19 U.S.C. 1332(g)), examine the effects of the relief action on the domestic wire rod industry and the principal users of wire rod in the United States. As requested by the USTR, the Commission's report on the investigation will focus on the effects of the action on the domestic wire rod industry and on principal users of wire rod in the United States since March 1, 2000, when the President imposed a tariff-rate quota on imports of certain steel wire rod² pursuant to section 203 of the Trade Act of 1974. As requested by the USTR, the Commission will transmit its report to the USTR no later than August 23, 2001, the date that the Commission is scheduled to submit its report to the President under section 204(a)(2) of the Trade Act of 1974 (Certain Steel Wire Rod: Monitoring Developments in the Domestic Industry, Investigation No. TA-204-6).

¹ Circular Steel Wire Rod, USITC Pub. 3207, July 1999.

² The imported article covered by this investigation is defined as hot-rolled bars and rods, in irregularly wound coils, of circular or approximately circular solid cross section, having a diameter of 5 mm or more but less than 19 mm, of non-alloy or alloy steel, except such bars and rods of free-machining steel or of alloy steel containing by weight 24 percent or more of nickel. Free-machining steel is any steel product containing by weight one or more of the following elements, in the specified proportions: 0.03 percent or more of lead, 0.05 percent or more of bismuth, 0.08 percent or more of sulfur, more than 0.04 percent of phosphorous, more than 0.05 percent of selenium, and/or more than 0.01 percent of tellurium. Certain steel wire rod is provided for in subheadings 7213.91, 7213.99, 7227.20, and 7227.90.60 of the Harmonized Schedule of the United States (HTS). The scope of this investigation does not cover concrete reinforcing bars and rods, or bars and rods of stainless steel or tool steel, which are provided for in other HTS subheadings. Also excluded from the scope of the investigation are wire rod of tire cord quality, valve spring quality, class III pipe wrap quality, aircraft cold heading quality, aluminum cable steel reinforced (“ACSR”) quality, piano wire string quality, grade 1085 annealed bearing quality, and grade 1080 tire bead wire quality. These products are described in detail in the annex to Presidential Proclamation 7273 (65 FR 8624, February 18, 2000).

Written Submissions

Interested persons are invited to submit written statements concerning the matters to be addressed in the report. Commercial or financial information that a party desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available for inspection by interested persons in the Office of the Secretary to the Commission. To be assured of consideration by the Commission, written statements relating to the Commission's report should be submitted at the earliest practical date and should be received no later than July 18, 2001. All submissions should be addressed to the Secretary, United States International Trade Commission, 500 E Street SW., Washington, DC 20436.

The Commission may wish to use the confidential business information you provide in this investigation in other investigations conducted under other statutory authority arising out of the relief action taken by the President as a result of the Commission's determination in investigation No. TA-201-69 concerning steel wire rod, but will do so only with your consent. Any confidential business information so used will be afforded the protection provided under the appropriate statutory authority. In your request for confidential treatment, please state whether you consent to such use.

By order of the Commission.
Issued: May 3, 2001.
Donna R. Koehnke,
Secretary.

[FR Doc. 01-11676 Filed 5-8-01; 8:45 am]

BILLING CODE 7020-02-P